DEPARTMENT OF ENERGY

Federal Energy Regulatory Commission

[Project No. 2466-037]

Appalachian Power Company; Notice of Intent To Prepare an Environmental Assessment

On February 28, 2022, Appalachian Power Company (Appalachian) filed an application for a new major license for the 2.4-megawatt Niagara Hydroelectric Project (Niagara Project; FERC No. 2466). The Niagara Project is located on the Roanoke River, in Roanoke County, Virginia. The project is adjacent to and partially within the Blue Ridge Parkway.

In accordance with the Commission's regulations, on February 7, 2023, Commission staff issued a notice that the project was ready for environmental analysis (REA Notice). Based on the information in the record, including comments filed on the REA Notice, staff does not anticipate that licensing the project would constitute a major federal action significantly affecting the quality of the human environment. On April 26, 2023, the Commission issued a notice indicating that staff intended to prepare a draft and final Environmental Assessment (EA). However, upon further review, staff intends to prepare a single EA on the application to relicense the Niagara Project.

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

By this notice, Commission staff is updating the procedural schedule for completing the EA. The revised schedule is shown below. Further revisions to the schedule may be made as appropriate.

¹ The Council on Environmental Quality's (CEQ) regulations under 40 CFR 1501.10(b)(1) (2022) require that EAs be completed within 1 year of the federal action agency's decision to prepare an EA. See National Environmental Policy Act, 42 U.S.C. 4321 et seq., as amended by section 107(g)(1)(B)(iii) of the Fiscal Responsibility Act of 2023, Public Law 118-5, 4336a, 137 Stat. 42.

Milestone | Target date
Commission issues EA | April 2024.¹
Comments on EA | May 2024.

Any questions regarding this notice may be directed to Laurie Bauer at (202) 502-6519 or laurie.bauer@ferc.gov.

Dated: December 14, 2023.
Debbie-Anne A. Reese,
Deputy Secretary.

[FR Doc. 2023-27984 Filed 12-19-23; 8:45 am]

BILLING CODE 6717-01-P